DEPARTMENT OF JUSTICE

[AG Order No. 2565-2002]

Office of the Attorney General; Homeland Security Advisory System

AGENCY: Department of Justice.

ACTION: Notice.

SUMMARY: The President has directed the Attorney General, in consultation and coordination with the Assistant to the President for Homeland Security, to seek the views of government officials at all levels, public interest groups, and the private sector, on a proposed Homeland Security Advisory System (“HSAS”). The HSAS would provide a comprehensive and effective means to disseminate information to Federal, State, and local authorities and to the American people regarding the risk of terrorist acts. Such a system would provide warnings in the form of a set of graduated “Threat Conditions” that change as the risk of the threat increases. The proposed system would establish five Threat Condition levels, each with a corresponding color, which is provided for clarity. They are, from lowest Threat Condition to highest: Low (Green); Guarded (Blue); Elevated (Yellow); High (Orange); and Severe (Red).

At each Threat Condition level, Federal agencies will implement a corresponding set of protective measures to reduce vulnerability or to increase response capability should a terrorist attack occur. State, local, and private sector parties are encouraged to take appropriate action.

DATES: Comments may be submitted through April 25, 2002.

ADDRESSES: Written comments may be sent to: Director, Federal Bureau of Investigation, Homeland Security Advisory System, Room 7222, 935 Pennsylvania Avenue, NW., Washington, DC 20535. Comments may also be submitted electronically to: HSAScomments@fbi.gov

FOR FURTHER INFORMATION CONTACT: John Collingwood, Federal Bureau of Investigation, Office of Public and Congressional Affairs at (202) 324-3691.

SUPPLEMENTARY INFORMATION: On March 11, 2002, as part of a series of initiatives to improve coordination and communication among all levels of government and the American public in the fight against terrorism, President Bush signed Homeland Security Presidential Directive 3 (HSPD-3), concerning the Homeland Security Advisory System.

The Attorney General is responsible for developing, implementing, and managing the system. In conjunction with the development of this new system, the Attorney General, at the direction of the President, is opening a 45-day comment period in order to seek the views of officials at all levels of government, law enforcement and the American public.

Ninety days after the conclusion of the comment period, the Attorney General, in coordination with the Director of the Office of Homeland Security, will present a final Homeland Security Advisory System to the President for approval.

The Attorney General specifically seeks comments on the following system.

The Homeland Security Advisory System

The purpose of the Homeland Security Advisory System is to provide a comprehensive and effective means to disseminate information regarding the risk of terrorist acts to Federal, State, and local authorities, and to the American people. The HSAS is intended to create a common vocabulary, context, and structure for an ongoing national discussion with Federal, State and local authorities, private sector industries, and the people of the United States about the nature of the threats that confront the homeland and the appropriate measures that should be taken in response. It seeks to inform and facilitate decisions appropriate to different levels of government and to private citizens at home and at work.

The HSAS is binding on the executive branch. It is suggested, although voluntary, to other levels of government and the private sector.

There are five Threat Conditions, each identified by a description and corresponding color. From lowest to highest, the levels and associated colors are: Low (Green); Guarded (Blue); Elevated (Yellow); High (Orange); and Severe (Red). At each Threat Condition level, Federal departments and agencies will be expected to implement a corresponding set of “Protective Measures” to further reduce vulnerability or increase response capability during a period of heightened alert. The Threat Condition levels and accompanying Protective Measures are further described below.

The higher the Threat Condition, the greater the risk of a terrorist attack. Risk includes both the probability of an attack occurring and its potential gravity. Threat Conditions are to be assigned by the Attorney General, in consultation with the Assistant to the President for Homeland Security. Except in exigent circumstances, the Attorney General shall seek the views of the appropriate Homeland Security Principals or their subordinates, and other parties as appropriate, on the Threat Condition to be assigned. Threat Conditions may be assigned for the entire Nation, or they may be set for a particular geographic area or industrial sector. Assigned Threat Conditions shall be reviewed at regular intervals to determine whether adjustments are warranted.

For facilities, personnel, and operations inside the territorial United States, all Federal departments, agencies, and offices other than military facilities shall conform their existing threat advisory systems to this system and henceforth administer their systems consistent with the determination of the Attorney General with regard to the Threat Condition in effect.

The assignment of a Threat Condition shall prompt the implementation of an appropriate set of Protective Measures. Protective Measures are the specific steps an organization shall take to reduce its vulnerability or increase its ability to respond during a period of heightened alert. The authority to craft and implement Protective Measures rests with the Federal departments and agencies. It is recognized that departments and agencies may have several preplanned sets of responses to a particular Threat Condition to facilitate a rapid, appropriate, and tailored response. Department and agency heads are responsible for developing their own Protective Measures and other antiterrorism or self-protection and continuity plans, and resourcing, rehearsing, documenting, and maintaining these plans. Likewise, they retain the authority to respond, as necessary, to risks, threats, incidents, or events at facilities within the specific jurisdiction of their department or agency, and, as authorized by law, to direct agencies and industries to implement their own Protective Measures. They shall continue to be responsible for taking all appropriate proactive steps to reduce the vulnerability of their personnel and facilities to terrorist attack. Federal department and agency heads shall submit an annual written report to the President, through the Assistant to the President for Homeland Security, describing the steps they have taken to develop and implement appropriate Protective Measures for each Threat Condition. Governors, mayors, and the leaders of other organizations are encouraged to conduct a similar review of their organization's Protective Measures.

The decision whether to publicly announce Threat Conditions shall be made on a case-by-case basis by the Attorney General in consultation with the Assistant to the President for Homeland Security. Every effort shall be made to share as much information regarding the threat as possible, consistent with the safety of the Nation. The Attorney General shall ensure, consistent with the safety of the Nation, that State and local government officials and law enforcement authorities are provided the most relevant and timely information. The Attorney General shall be responsible for identifying any other information developed in the threat assessment process that would be useful to State and local officials and others and conveying it to them as permitted consistent with the constraints of classification. The Attorney General shall establish a process and a system for conveying relevant information to Federal, State, and local government officials and law enforcement authorities, and the private sector expeditiously.

The Director of Central Intelligence and the Attorney General shall ensure that a continuous and timely flow of integrated threat assessments and reports is provided to the President, the Vice President, Assistant to the President and Chief of Staff, the Assistant to the President for Homeland Security, and the Assistant to the President for National Security Affairs. Whenever possible and practicable, these integrated threat assessments and reports shall be reviewed and commented upon by the wider interagency community.

A decision on which Threat Condition to assign shall integrate a variety of considerations. This integration will rely on qualitative assessment, not quantitative calculation. Higher Threat Conditions indicate greater risk of a terrorist act, with risk including both probability and gravity. Despite best efforts, there can be no guarantee that, at any given Threat Condition, a terrorist attack will not occur. An initial and important factor is the quality of the threat information itself. The evaluation of this threat information shall include, but not be limited to, the following factors:

1. To what degree is the threat information credible?

2. To what degree is the threat information corroborated?

3. To what degree is the threat specific and/or imminent?

4. How grave are the potential consequences of the threat?

Threat Conditions and Associated Protective Measures

The world has changed since September 11, 2001. We remain a Nation at risk to terrorist attacks and will remain at risk for the foreseeable future. At all Threat Conditions, we must remain vigilant, prepared, and ready to deter terrorist attacks. The following Threat Conditions each represent an increasing risk of terrorist attacks. Beneath each Threat Condition are some suggested Protective Measures, recognizing that the heads of Federal departments and agencies are responsible for developing and implementing appropriate agency-specific Protective Measures:

1. Low Condition (Green). This condition is declared when there is a low risk of terrorist attacks. Federal departments and agencies should consider the following general measures in addition to the agency-specific Protective Measures they develop and implement:

(a) Refining and exercising as appropriate preplanned Protective Measures;

(b) Ensuring personnel receive proper training on the Homeland Security Advisory System and specific preplanned department or agency Protective Measures; and

(c) Institutionalizing a process to assure that all facilities and regulated sectors are regularly assessed for vulnerabilities to terrorist attacks, and all reasonable measures are taken to mitigate these vulnerabilities.

2. Guarded Condition (Blue). This condition is declared when there is a general risk of terrorist attacks. In addition to the Protective Measures taken in the previous Threat Condition, Federal departments and agencies should consider the following general measures in addition to the agency-specific Protective Measures that they will develop and implement:

(a) Checking communications with designated emergency response or command locations;

(b) Reviewing and updating emergency response procedures; and

(c) Providing the public with any information that would strengthen its ability to act appropriately.

3. Elevated Condition (Yellow). An Elevated Condition is declared when there is a significant risk of terrorist attacks. In addition to the Protective Measures taken in the previous Threat Conditions, Federal departments and agencies should consider the following general measures in addition to the Protective Measures that they will develop and implement:

(a) Increasing surveillance of critical locations;

(b) Coordinating emergency plans as appropriate with nearby jurisdictions;

(c) Assessing whether the precise characteristics of the threat require the further refinement of preplanned Protective Measures; and

(d) Implementing, as appropriate, contingency and emergency response plans.

4. High Condition (Orange). A High Condition is declared when there is a high risk of terrorist attacks. In addition to the Protective Measures taken in the previous Threat Conditions, Federal departments and agencies should consider the following general measures in addition to the agency-specific Protective Measures that they will develop and implement:

(a) Coordinating necessary security efforts with Federal, State, and local law enforcement agencies or any National Guard or other appropriate armed forces organizations;

(b) Taking additional precautions at public events and possibly considering alternative venues or even cancellation;

(c) Preparing to execute contingency procedures, such as moving to an alternate site or dispersing their workforce; and

(d) Restricting threatened facility access to essential personnel only.

5. Severe Condition (Red). A Severe Condition reflects a severe risk of terrorist attacks. Under most circumstances, the Protective Measures for a Severe Condition are not intended to be sustained for substantial periods of time. In addition to the Protective Measures in the previous Threat Conditions, Federal departments and agencies also should consider the following general measures in addition to the agency-specific Protective Measures that they will develop and implement:

(a) Increasing or redirecting personnel to address critical emergency needs;

(b) Assigning emergency response personnel and pre-positioning and

(c) Mobilizing specially trained teams or resources;

(d) Monitoring, redirecting, or constraining transportation systems; and

(e) Closing public and government facilities.

Dated: March 13, 2002.
Larry D. Thompson,
Acting Attorney General.

[FR Doc. 02-6565 Filed 2-15-02; 8:45 am]

BILLING CODE 4410-20-P